DEPARTMENT OF TRANSPORTATION

Federal Transit Administration

[Docket No. FTA-2015-0029]

Supplemental Notice and Response to Comments on National Transit Database

AGENCY: Federal Transit Administration, DOT.

ACTION: Request for Comments

SUMMARY: This notice responds to comments on a proposed expansion of the Federal Transit Administration's (FTA) National Transit Database (NTD); requests comments on additional proposed reporting; and requests comments on updating the NTD's approval to collect information under the Paperwork Reduction Act.

DATES: Comments are due by January 19, 2016. FTA will consider late comments to the extent practicable.

ADDRESSES: Please identify your submission by Docket Number (FTA-2015-0029) through one of the following methods:

• Federal eRulemaking Portal: Submit electronic comments and other data to http://www.regulations.gov.

• U.S. Mail: Send comments to Docket Operations; U.S. Department of Transportation, 1200 New Jersey Avenue SE., West Building Room W12-140, Washington, DC 20590-0001.

• Hand Delivery or Courier: Take comments to Docket Operations in Room W12-140 of the West Building, Ground Floor, at 1200 New Jersey Avenue SE., Washington, DC, between 9:00 a.m. and 5:00 p.m., Monday through Friday, except Federal holidays.

• Fax: Fax comments to Docket Operations, U.S. Department of Transportation, at (202) 493-2251.

Instructions: You must include the agency name (Federal Transit Administration) and Docket Number (FTA-2015-0029) for this notice, at the beginning of your comments. If sent by mail, submit two copies of your comments. Due to security procedures in effect since October 2001, mail received through the U.S. Postal Service may be subject to delays. Parties submitting comments should consider using an express mail firm to ensure their prompt filing of any submissions not filed electronically or by hand. If you wish to receive confirmation that FTA received your comments, you must include a self-addressed stamped postcard. All comments received will be posted without change to http://www.regulations.gov, including any personal information provided. You may review U.S. DOT's complete Privacy Act Statement published in the Federal Register on April 11, 2000, at 65 FR 19477-8 or http://DocketsInfo.dot.gov.

Electronic Access and Filing: This document and all comments received may be viewed online through the Federal eRulemaking portal at http://www.regulations.gov. Electronic submission and retrieval help and guidelines are available on the Web site. It is available 24 hours each day, 365 days a year. Please follow the instructions. An electronic copy of this document may also be downloaded from the Office of the Federal Register's home page at https://www.federalregister.gov.

FOR FURTHER INFORMATION CONTACT: Maggie Schilling, National Transit Database Deputy Program Manager, FTA Office of Budget and Policy, (202) 366-2054 or margaret.schilling@dot.gov.

SUPPLEMENTARY INFORMATION:

Table of Contents

A. Background

B. Response to Comments on Expansion of Capital Asset Reporting for Urban Reporters

C. Additional Proposed Changes to Capital Asset Inventory Data

1. Urban Reporters

2. Capital Asset Reporting for 5310 and 5311 Recipients

3. Proposed Performance Measures and Targets Data

D. Paperwork Reduction Act Approval

A. Background

On August 19, 2014, FTA published a Federal Register notice (initial notice) (Docket No. FTA-2014-0006, 79 FR 49146) for comment on proposed revisions to the NTD Reporting Manual. The notice described various proposed changes to the NTD annual module, including a revised capital asset inventory reporting module for urban reporters, which is the subject of this supplemental notice.

The proposed changes to the NTD Reporting Manual stem from amendments to Federal transit law made by the Moving Ahead for Progress in the 21st Century Act (MAP-21) (Pub. L. 112-141, July 6, 2012), which require recipients of Chapter 53 funds to report to the NTD any information relating to a transit asset inventory or condition assessment conducted by the recipient. 59 U.S.C. 5335(c). Currently, the NTD collects asset inventory information on revenue vehicles and summary counts for other asset categories, such as maintenance facilities and fixed guideway. There are some assets, such as signal or communications systems, for which NTD collects no data. In the initial notice, FTA proposed to collect additional asset inventory data to meet the asset inventory and condition reporting requirements at 49 U.S.C. 5335(c).

In the initial notice, FTA proposed that the NTD Asset Inventory Module collect the following data through a recipient's submission of electronic forms:

• Agency Identification. Collects organizational and contact information.

• Administrative and Maintenance Facilities. Collects information on administrative and maintenance facilities used to supply transit service, including facility name, street address, square footage, year built or substantially reconstructed, primary transit mode supported, and estimated replacement cost.

• Passenger and Parking Facilities. Collects information on passenger and passenger parking facilities used in the provision of transit service, including facility name, street address, square footage and number of parking spaces, year built or substantially reconstructed, primary mode, and estimated replacement cost.

• Rail Fixed Guideway. Collects data on linear guideway assets and power and signal equipment, including the length of specific types of guideway and corresponding equipment, reported as network totals by mode and operating agreement. The data includes quantity, expected service years, date of construction or major rehabilitation (within a ten year window), and estimated replacement cost.

• Track. Collects data on track assets, including length and total number of track special work, reported as network totals by rail mode and operating agreement. The data includes expected service years and date of construction or major rehabilitation.

• Service Vehicles. Collects data on service vehicles that support transit service delivery, maintain revenue vehicles, and perform administrative activities. The data includes quantity, expected service life, year of manufacture, and estimated replacement cost.

In the initial notice, FTA proposed that it would begin implementing the proposed reporting requirements beginning with the 2015 NTD reporting cycle (beginning September 2015). FTA proposed granting a waiver for the 2015 NTD reporting cycle and granting waivers on a case-by-case basis for the 2016 NTD reporting cycle.

B. Response to Comments on Expansion of Capital Asset Reporting for Urban Reporters

The comment period for the initial notice closed on October 20, 2014. FTA received 75 comments to its initial notice. This notice includes FTA's responses to eighteen (18) comments related to the NTD Asset Inventory Module. FTA responded previously to the remaining fifty-seven (57) comments in the Federal Register notice: Revised NTD Reporting Manual and Response to Comments (80 FR 18699, Apr. 7, 2015). Following is a summary of the comments from the initial notice related to the NTD Asset Inventory Module.

Comment: Six (6) commenters raised a concern over implementing the proposed inventory module prior to the publication of a final Transit Asset Management rule implementing 49 U.S.C. 5326. One commenter stated that “the proposed expansion of NTD reporting to include asset inventory data is premature. Because the Secretary of Transportation has yet to define “state of good repair” or to establish the official performance measure for that condition, relevant asset information cannot be identified at this time.” Commenters recommended postponing the implementation of the module until after the publication of a final rule. While one (1) commenter did not specifically request postponing the implementation of the module, the commenter expressed concern that this module may conflict with additional requirements of the transit asset management rulemaking.

Response: FTA will implement proposed revisions to the NTD Asset Inventory Module concurrent with effective date of final TAM rule. The reader should be aware, however, that FTA's proposed changes to the NTD Asset Inventory Module in the initial notice were based, primarily, on the authority at 49 U.S.C. 4335(c) that recipients report asset inventory and condition assessment information to the NTD. The proposed changes in the initial notice were not dependant on FTA first defining the term “state of good repair” or issuing a final TAM rule. The requirements of the new TAM program, while related to NTD reporting, are separate. The new TAM program requires each recipient of FTA grant funds to develop a Transit Asset Management Plan that includes an inventory of its capital assets and condition assessment of those assets. 49 U.S.C. 5326(a)(2) and (b)(2). The TAM program also includes new requirements for the annual reporting of the condition of a recipient's public transportation system and a recipient's progress towards meeting performance targets. 49 U.S.C. 5326(b) and (c)(3).

Comment: Five (5) commenters expressed that the proposed asset inventory would be too burdensome to implement and that it would be both difficult and costly to put their data into the requested format. One (1) commenter expressed concern that providing the requested replacement cost information for stations would require “costly engineering studies.” One (1) commenter stated that it would take effort, but they would be able to provide the data requested within the proposed timeline.

Response: FTA is committed to implementing reasonable data reporting requirements, while also meeting the requirements in the law for reporting asset condition information. FTA believes that the proposed changes to the NTD Asset Inventory Module in the initial notice would strike the appropriate balance in minimizing reporting burden while still allowing for meaningful data analysis on the national capital needs of the transit industry. While FTA recognizes that the proposed changes would result in an increase over the current reporting requirements, the highest burden would exist in the first year of start-up reporting. Once an asset has been entered into the inventory module, the information would be pre-populated for each subsequent year. Reporters only would be responsible for providing annual updates to new or retired asset inventory items in subsequent years.

FTA is also sensitive to commenters' concerns that providing the most accurate replacement cost information may require an engineering study of a facility. FTA further recognizes that accurate replacement cost information may be especially difficult to obtain for historic systems and those systems with a large facility inventory. After additional consideration, FTA has decided to remove the proposed replacement cost reporting requirement to reduce the burden on reporting agencies.

Comment: Five (5) commenters requested a longer implementation timeline or requested that requirements be phased in over time. Two (2) commenters specifically requested that the 2015 implementation phase be eliminated with initial implementation pushed out to 2016.

Response: FTA will implement proposed revisions to the NTD Asset Inventory Module concurrent with effective date of a final TAM rule. However, recipients will have the option to begin reporting the asset inventory data proposed in the initial notice in reporting year 2016 and up until the effective date of a final TAM rule, after which FTA may consider requests for a one-year extension.

Comment: Two (2) commenters stated that the NTD was not the appropriate place to collect asset inventory information. One (1) commenter disagreed with FTA's interpretation of MAP-21 and suggested that maintaining an asset inventory through NTD is redundant and unnecessary and recommended that FTA continue to use sampling to obtain the inventory data needed to estimate the backlog through the Transit Economic Requirements Model (TERM).

Response: MAP-21 amended 49 U.S.C. 5335 (c) (National Transit Database) to require the reporting of “any information relating to a transit asset inventory or condition assessment conducted by the recipient.” Accordingly, FTA believes that the NTD is the appropriate place to report this information, and FTA believes that consolidating various reporting requirements together in the NTD would minimize the reporting burden on the industry.

Comment: Three (3) commenters requested technical or layout changes to the module. Two (2) commenters requested an adjustment to the layout of the data collection form, specifically, requesting the addition of cells that would allow them to enter their own vehicle ID information. Additionally, one commenter requested a bulk upload feature be added to the NTD.

Response: FTA will add a `notes' column to the vehicle inventory module that will allow reporters to enter additional identifying information for vehicles. This information would only be included for the ease of the reporter and would not be used for official identification purposes by FTA.

FTA is in the process of developing a `bulk upload' feature for the NTD that would allow reporters to enter information into a specified excel spreadsheet format for upload into the NTD. FTA will continue to refine the layout and functionality of the asset inventory module in response to user feedback and testing.

Comment: Four (4) commenters raised concerns regarding asset inventories for assets owned or maintained by a third party. One commenter stated that third party assets should be differentiated from agency-owned assets. Another commenter expressed concerns about the ability to obtain asset inventory information from third party contractors that may not use those assets exclusively for transit service. Additionally, some commenters stated that private companies have expressed concerns over losing their competitive edge by sharing this data. Another commenter suggested that FTA should only request information on assets which are owned or leased by an agency, as agencies often do not keep records on assets owned or maintained by other entities.

Response: FTA is sensitive to the additional burden of obtaining detailed information on assets owned and operated by a third party, especially any information that may compromise competition amongst private parties providing transit services. Therefore, FTA does not intend to require replacement cost information for third party-owned vehicles. Reporters still would be required to report additional vehicle inventory information on these vehicles.

FTA does not intend to collect detailed asset inventory on a non-dedicated fleet. Reporting requirements for a non-dedicated fleet would remain the same as historic NTD reporting requirements. Reporters may reference these requirements in the NTD Reporting Manual located on the NTD Web site: www.ntdprogram.gov. Reporters would be expected to provide information on a “representative vehicle” for non-dedicated fleets. Replacement cost information would not be collected for any other asset types. FTA will update the proposed form and reporting manual to clearly reflect these requirements.

Comment: Three (3) commenters stated that FTA should keep asset inventory reporting requirements at a high level. One (1) commenter suggested that the October 2012 TAM Guide should be used as the representative consensus view. Another commenter expressed concern that the NTD requirements “dismiss the results of FTA's Asset Inventory Module Pilot Program” and requested clarification on the intent behind collecting this level of detail.

Response: FTA is sensitive to the request to keep the asset inventory data requirements at a high level in order to minimize the burden on reporting agencies. The proposed asset inventory data requirements were informed by FTA's TAM Guide. The TAM Guide is FTA's primary source of guidance on transit asset management. The TAM Guide combines previous research, case studies and lessons learned from other FTA State of Good Repair initiatives, the existing state of the practice in asset management from other fields, and the international asset management standard efforts by the International Standards Organization.

The proposed asset inventory requirements would implement the statutory requirement for inclusion in the NTD of any information related to a transit asset inventory and condition assessment conducted by grant recipients. 49 U.S.C. 5335(c). FTA believes that the proposed asset inventory module balances the requirement for this data with current industry practices and recommendations. FTA believes that the requested level of detail is at the appropriate level for a meaningful analysis of the transit industry's capital liabilities as well as the state of good repair backlog. The data collected through these modules would improve the outputs of TERM and allow for a more detailed discussion of the conditions and performance of the Nation's transit systems in the C&P Report.

Comment: One (1) commenter cautioned that standardized data across all modes may not be appropriate, specifically stating that ferry boats are not equipped with an odometer and therefore cannot provide an odometer reading as requested.

Response: FTA understands that not all transit vehicles are equipped with an odometer or hubometer. For the purpose of reporting in this form, the mileage for a mode that is not equipped with this type of equipment could be reported as an annual estimate using a defensible methodology. FTA will update the manual to clearly reflect this change.

Comment: One (1) commenter requested clarity on whether or not there will be a requirement to report on “support” vehicles.

Response: Form A-60 in the proposed NTD Asset Inventory Module tracks non-revenue service vehicles. This would be the appropriate place for a reporter to include information on support vehicles such as police cars, vehicles driven by service supervisors or maintenance personnel, etc.

Comment: One commenter requested flexibility in setting a minimum threshold for asset inclusion. Specifically, they felt that items less than $10K should not be included.

Response: FTA developed the proposed inventory categories and reporting requirements to keep information at a high level and does not anticipate that the proposed inventory categories would include assets that are valued below $10,000.

Comment: One (1) commenter expressed concern that square footage requirements may not correlate to replacement costs and may be difficult to obtain from legacy system records. They recommended removing the square footage requirement.

Response: While FTA recognizes that square footage alone may not directly correlate with the replacement cost of a facility in all cases, it believes that the connection between facility square footage and replacement cost is strong enough to justify the collection of this information. Moreover, FTA is no longer proposing to collect estimated replacement cost information directly, in the interests of minimizing reporting burden. As such, collecting square footage is the least-burdensome way for FTA to have any basis of estimating replacement cost, and by extension, of estimating the state of good repair backlog.

Comment: One (1) commenter suggested changes to the fixed guideway and track forms including: Limiting the classifications for guideway; consolidating the power substation building and equipment into one category; and “using the term `interlocking plant' along with grade crossings to describe special work and eliminate the other categories.”

Response: FTA believes that limiting the data as the commenter recommends would not properly account for the variety of operating climates and infrastructure represented in the NTD. At this time, FTA believes the proposed categories would allow for a meaningful analysis without presenting an undue reporting burden.

Comment: One (1) commenter identified an issue with the ownership structure of their passenger stations and the proposed asset inventory reporting instructions. Many of their stations are owned by the cities where the stations are located and the proposed changes in the initial notice suggests that the cities would be required to report these stations or else they would go unreported.

Response: FTA intends to request a transit agency to provide basic inventory information for all stations used in the provision of service. Station location information would be reported for all stations, However, size and financial information would be required only if the transit agency has full or partial capital responsibility for the station.

Comment: Two (2) commenters noted that the proposed categories do not mirror the F-20 (use of capital funds) form and suggested that these categories should remain consistent.

Response: FTA acknowledges that the proposed categories in the initial notice are different than those in the F-20 form. The F-20 form is intended to align with the standard cost categories used by FTA to report the expenditure of grant monies. The proposed inventory was organized according to the four capital asset categories identified in MAP-21: Equipment, rolling stock, infrastructure, and facilities; and is intended to meet MAP-21 requirements and capture information on capital assets to inform state of good repair needs and trends across the industry. FTA does not believe that the two forms need to be organized in the same manner.

C. Additional Proposed Changes to Capital Asset Inventory Data

1. Urban Reporters

In its initial notice, FTA proposed that the NTD Asset Inventory Module collect the following facility-related data through a recipient's submission of electronic forms:

• Administrative and Maintenance Facilities. Information on administrative and maintenance facilities used to supply transit service, including facility name, street address, square footage, year built or substantially reconstructed, primary transit mode supported, and estimated replacement cost.

• Passenger and Parking Facilities. Collects information on passenger and passenger parking facilities used in the provision of transit service, including facility name, street address, square footage and number of parking spaces, year built or substantially reconstructed, primary mode, and replacement cost.

In addition to the information listed above, through this notice, FTA is proposing to require that an urban recipient also report on the condition of its facilities using the TERM 1 (poor) to 5 (excellent) scale. As indicated in FTA's response to comments, it will not collect replacement cost data as initially proposed. FTA seeks comment on its proposal to require reporting of facility condition data. The proposed forms can be viewed at http://www.ntdprogram.gov/ntdprogram/assetInventory.htm.

2. Capital Asset Reporting for 5310 and 5311 Recipients

Through this notice, FTA is proposing reduced asset inventory reporting requirements for providers that exclusively receive 5310 or 5311 funds. The proposed vehicle inventory form for 5310 recipients mirrors the current rural vehicle inventory module. Reporters would be required to provide information on their vehicle type, length, seating capacity, year of manufacture and funding source. The proposed forms can be viewed at http://www.ntdprogram.gov/ntdprogram/assetInventory.htm.

Recipients of 5311 funds would continue to report vehicle inventory data for their subrecipients as they have in the past; however, FTA proposes that 5311 recipients provide additional detail on their facilities. The proposed facility inventory requirements for 5311 recipients mirror those proposed for urban reporters above (see description above). Reporters would be required to provide expanded information on administrative and maintenance facilities used to supply transit service. For each facility, the facility name, street address, square footage, year built or substantially reconstructed, primary transit mode supported, and asset condition rating (ranked on a 5-point scale in keeping with the Transit Economic Requirements Model).

To the extent that 5311 recipients have passenger and parking facilities, they would also be responsible for providing information for each facility, including: The facility's name, street address, square footage and number of parking spaces, year built or substantially reconstructed, primary mode, and asset condition rating.

To simplify reporting, the system would retain data from the previous year's report. Only new assets, retired assets, and refurbished assets would need to be reported after the first year. Condition assessments for all facilities, including administrative and maintenance buildings as well as passenger stations and parking structures, would be updated at least once every three years.

FTA seeks comments on its proposed reporting requirements for recipients of 5310 and 5311 funds.

3. Proposed Performance Measures and Targets Data

Pursuant to the requirements of 49 U.S.C. 5326(c), FTA intends to collect performance metrics and targets in the NTD. Subsequent to publication of a final TAM rule, FTA is proposing that all recipients would be required to report annually on their targets and progress for the following:

• Equipment-Service Vehicles. The proposed performance measure for non-revenue, support and maintenance vehicles is the percentage of vehicles that have met or exceeded their useful life benchmark (ULB). To determine the ULB, a Transit Provider may either use the default ULB established by FTA or a ULB, established by the Transit Provider in consideration of local conditions and usage and approved by FTA. The NTD system would calculate annual performance based on the manufacturer's age information that is entered into the vehicle inventory. FTA does not currently collect the age of manufacture for service vehicles. FTA is proposing that this information be collected as part of the expanded capital asset inventory. Reporters would be required to provide one target for the percentage of classification of non-revenue vehicle that have met or exceeded their useful life benchmark for each service vehicle category.

• Rolling Stock. The proposed performance measure for rolling stock is the percentage of revenue vehicles within a particular asset class that have either met or exceeded their useful life benchmark (ULB). To determine the ULB, a recipient may either use the default ULB established by FTA or a ULB established by the recipient in consideration of local conditions and usage and approved by FTA. FTA currently collects the year of manufacture for revenue vehicles. FTA is proposing that recipients report one target and useful life benchmark for each revenue vehicle classification. The NTD system would calculate annual performance based on the date of manufacture information entered into the vehicle inventory.

• Rail-fixed Guideway Infrastructure (track, signals, and systems). The proposed performance measure for rail-fixed guideway infrastructure is the percentage of track segments, signals, and systems with performance restrictions. FTA is proposing that recipients report a target and performance of this metric for each mode. FTA will provide additional technical assistance and guidance on how to measure a performance restriction.

• Facilities. The proposed performance measure for facilities is the percentage of all facilities rated below condition 3 on the condition scale used by FTA's Transit Economic Requirements Model (TERM). FTA is proposing that the condition rating for each facility be reported through the capital asset reporting. The system would automatically calculate performance based on these reports. Reporters would also be required to provide an annual target for each facility type. FTA will provide additional technical assistance and guidance on to measure a facility condition rating on the TERM scale.

FTA seeks comment on its proposal to require recipients to report the above performance-related information. The Transit Asset Management Notice of Proposed Rulemaking was published in the Federal Register on September 30, 2015. 80 FR 58912. The comment period closes on November 30, 2015. FTA encourages readers to submit comments on the NPRM, including the proposed performance measures, to docket # FTA-2014-0020 at www.regulations.gov.

C. Paperwork Reduction Act

Anticipated Burden

A Paperwork Reduction Act justification of these changes has been submitted for review. FTA estimates that the initial year burden nationally will be 18,636 hours for urban reporters and 13,097 hours for state and rural reporters or 31,733 hours in total. This represents a 10.5% increase to the total NTD in the first year. The burden in subsequent years is estimated at 9,318 hours for urban reporters and 6,549 for state and rural reporters or a total of 15,867 hours representing a 5.2% increase to the total NTD.

Estimated Annual Burden on Respondents (new module): 15,867 hrs.

Estimated Total Annual Burden (Total NTD): 318,267 hrs.

Frequency: Reporting Annually.

Therese W. McMillan,
Acting Administrator.

[FR Doc. 2015-29384 Filed 11-17-15; 8:45 am]

BILLING CODE P